DEPARTMENT OF TRANSPORTATION

Office of the Secretary

[Docket No. DOT-OST-2023-0116]

Senior Executive Service Performance Review Board Membership

AGENCY: Office of the Secretary, Department of Transportation (DOT).

ACTION: Notice of Performance Review Board (PRB) appointments.

SUMMARY: DOT published the names of the persons selected to serve on Departmental PRBs.

FOR FURTHER INFORMATION CONTACT: Anne B. Audet, Director, Departmental Office of Human Resource Management (202) 366-2478.

SUPPLEMENTARY INFORMATION: The persons named below may be selected to serve on one or more Departmental PRBs.

(Authority: 5 U.S.C. 4314(c)(4))

Issued in Washington, DC, on September 8, 2023.
Anne B. Audet,
Director, Departmental Office of Human Resource Management.

Department of Transportation

Federal Highway Administration

ALONZI, ACHILLE

ARNOLD, ROBERT E

BAKER, SHANA V

BENJAMIN, RANDALL KEITH II

BEZIO, BRIAN R

BIONDI, EMILY CHRISTINE

BRIGGS, VALERIE ANNETTE

BURROWS, SHAY K

CHIN, ARTHUR ANDREW

CHRISTIAN, JAMES C

CRONIN, BRIAN P

CUNNINGHAM, JOSHUA BLAKE

CURTIS, STEPHANIE

EVANS, MONIQUE REDWINE

FINFROCK, ARLAN E JR

FLEURY, NICOLLE M

FOUCH, BRIAN J

GIGLIOTTI, DANA

HARTMANN, JOSEPH L

HUGHES, CAITLIN GWYNNE

JENSEN, GARY ALAN

KALLA, HARI

KEHRLI, MARK R

KNOPP, MARTIN C

LEWIS, DAVID A

MAMMANO, VINCENT P

MARQUIS, RICHARD J

MCLAURY, KEVIN L

NEHME, JEAN ANTOINE

NESBITT, MICHAEL D

OSBORN, PETER W

PETTY, KENNETH II

REGAL, GERALDINE K

RICHARDSON, CHRISTOPHER STEVEN

RICO, IRENE

RITTER, ROBERT G

ROGERS, ANDREW CHARLES

RUSNAK, ALLISON B

SCHAFTLEIN, SHARI M

SHAFFER, RHONDA C

SHEPHERD, GLORIA MORGAN

SOSA, MAYELA

STEPHANOS, PETER J

THORNTON, NICHOLAS R

TURNER, DERRELL E

WALKER, CHERYL J

WILNER, MARCUS D

WINTER, DAVID R

WRIGHT, LESLIE JANICE

Federal Motor Carrier Safety Administration

ADAMS, EARL STANLEY JR

FROMM, CHARLES J

HERNANDEZ, SCOTT

HUG, CARRIE A

KEANE, THOMAS P

KELLY, TAFT D

KREEB, ROBERT M

LAWLESS, SUE

LENFERT, WINSOME A

LIBERANTE, WENDY LOUISE

LIBERATORE, THOMAS JOSEPH

MINOR, LARRY W

NEMONS, PATRICK D

PIDUGU, PAVANKUMAR

RIDDLE, KENNETH H.

RUBAN, DARRELL L

SCHREIBMAN, JACK L

SENTEF, JOSEPH

STEELE, GEORGIA SHARLENE

Federal Railroad Administration

ALEXY, JOHN KARL

ALLAHYAR, MARYAM

DYER, WILLIAM PATRICK

FULTZ, ALLISON ISHIHARA

GARLAND, JAMES JASON

GLUCK, STUART MURRAY

HAYWARD-WILLIAMS, CAROLYN R

JORTLAND, BRETT ANDREW

KING, CHARLES PAT

KOUL, NEERAJ

LESTINGI, MICHAEL W.

LONG, MICHAEL T

LONGLEY, MICHAEL M

MITCHELL, JENNIFER LOUISE

NISSENBAUM, PAUL

OSTERHUES, MARLYS A

PATTERSON, MARK A

RENNERT, JAMIE P.

REYES-ALICEA, REBECCA

RIGGS, TAMELA LYNN

Federal Transit Administration

AHMAD, MOKHTEE

ALLEN, REGINALD E

BROOKINS, KELLEY

BUTLER, PETER S

DALTON-KUMINS, SELENE FAER

DELORENZO, JOSEPH P

GARCIA CREWS, THERESA

GOODMAN, STEPHEN C

IYER, SUBASH SUBRAMANIAN

JAMES, FELICIA LANISE

KOHLER, THERESA JANE

LEARY, MARY A

LYSSY, GAIL C

NIFOSI, DANA C.

PFISTER, JAMIE DURHAM

ROBINSON, BRUCE A

TAYLOR, YVETTE G

TELLIS, RAYMOND S

TERWILLIGER, CINDY E

VANTERPOOL, VERONICA MARIA

WELBES, MATTHEW J

Maritime Administration

BALLARD, JOHN R

BECKETT, COREY ANDREW

DAVIS, DELIA P

DUNLAP, SUSAN LYNN

HARRINGTON, DOUGLAS M

HELLER, DAVID M

KAMMERER, GREGORY LOUIS

KUMAR, SHASHI N

NUNAN, JOANNA MARIE

PAAPE, WILLIAM

TOKARSKI, KEVIN M

WHERRY REESE FLACK, TAMEKIA ADEL

National Highway Traffic Safety Administration

BAUMANN, ROLAND T III

BLINCOE, LAWRENCE J

CARLSON, ANN ELIZABETH

CHEN, CHOU-LIN

CLAYTON, SEAN METRICE

DANIELSON, JACK H.

DOHERTY, JANE H

DOLAS, RAJEEV K

DONALDSON, K JOHN

HATIPOGLU, CEM

HINES, DAVID M

JOHNSON, TIM J

KOLODZIEJ, KERRY E

MARSHALL, JOHN W

MATHEKE, OTTO G III

POSTEN, RAYMOND R

SAUERS, BARBARA F

SHULMAN, SOPHIE MIKHAL

SOMMERS, TERRENCE

SRINIVASAN, NANDA N

SUMMERS, LORI K

VALLESE, JULIETTE M.

Office of the Secretary of Transportation

ABRAHAM, JULIE

ALBRIGHT, JACK G

AUDET, ANNE H

AUGUSTINE, JOHN E

AYLWARD, ANNE D

BAKER, SARAH ELIZABETH

BARTLETT, MAEVE VALLELY

BOHNERT, ROGER V

BROWN, ALVIN

CALLENDER, DUANE A

CARLILE, SAESHA LYNN

CARLSON, TERENCE W

CASTRO, BRIAN MATTHEW

COGGINS, COLLEEN P

COHEN, DANIEL

CONNORS, SUSAN M

DOUGHERTY, BARBARA KAYE

FARAJIAN, MORTEZA

FISCHER, KARA LYNN

FLEMING, GREGG G

FUNK, JENNIFER S

GEIER, PAUL M

GOLDSTEIN, SCOTT ROSS

HALLE, BENJAMIN GABLER

HALLE, MICHAEL MACKAY

HAMPSHIRE, ROBERT CORNELIUS

HOMAN, TODD M

HOWARD, JENNIFER MARGUERITE

HU, PATRICIA S.

HUYNH, JULI C

IRVINE, PETER D

JACKSON, RONALD A

JARRIN, JOSEPH HUMPHREY

KALETA, JUDITH S

KING, DANIEL E.

LANG, JAMES M.

LAWRENCE, CHRISTINE A

LEFEVRE, MARIA S.

LOHRENZ, MAURA C

MARCHESE, APRIL LYNN

MARION, IRENE BIANCA

MARTIN, HAROLD W III

MCCARTNEY, ERIN P

MCNAMARA, PHILIP ADAM

MIDDLETON, GARY LEE

MIMS, AUGUSTUS B III

MORGAN, DANIEL S.

O'BERRY, DONNA

ORNDORFF, ANDREW R

PAIEWONSKY, LUISA M

POPKIN, STEPHEN M

REAMY, LYNDA TRAN

REDUS, TYRA LATRICE

RIBEIRO, LICERIO G JR

SCHACHTER, CORDELL

SCHMITT, ROLF R

SHEIKH IBRAHIM, FIRAS

SHEPARD, DESHAWN MONIQUE

SHIKANY, ANN MARIE

SIMPSON, JOAN

SMITH, WILLIE H

SPRAGUE, MARY G.

SUSSMAN, SABRINA SANAM

SWITZER, MARCUS JEREMY

SYED, MOHSIN RAZA

SZAKAL, KEITH J

SZATMARY, RONALD ALLEN JR

TAYLOR, BENJAMIN J

TIMOTHY, DARREN P

URE, DEVIN L.

WALKER, JONATHAN B

WASHINGTON, KEITH E

WORKIE, BLANE A

ZIFF, LAURA M

Pipeline and Hazardous Materials Safety Administration

BROWN, TRISTAN HILTON

CHAUDHRY, ANIL

CHAVEZ, RICHARD M.

DAUGHERTY, LINDA

DAVIS, CAREY THOMAS

FARLEY, AUDREY L.

GATTI, JONATHAN D

HARR, TRICIA M

MAYBERRY, ALAN K

MCMILLAN, HOWARD W

QUADE, WILLIAM A III

SCHOONOVER, WILLIAM S

TAHAMTANI, MASSOUD

TSAGANOS, VASILIKI B

Great Lakes St. Lawrence Seaway Development Corporation

FISHER, ANTHONY JR

O'MALLEY, KEVIN P

SCHARF, JEFFREY W

[FR Doc. 2023-19977 Filed 9-14-23; 8:45 am]

BILLING CODE 4910-9X-P